DEPARTMENT OF AGRICULTURE

Natural Resources Conservation Service

Notice of Proposed Revisions to the National Handbook of Conservation Practices for the Natural Resources Conservation Service

AGENCY: Natural Resources Conservation Service, USDA.

ACTION: Notice of availability; request for comment.

SUMMARY: The Natural Resources Conservation Service (NRCS) is giving this notice that it intends to issue a series of revised conservation practice standards in the National Handbook of Conservation Practices (NHCP), and NRCS is also giving the public an opportunity to provide comments on specified practice conservation standards in NHCP.

DATES: We will consider comments that we receive by November 22, 2019. Comments received after this date will be considered to the extent possible. Final versions of these new or revised conservation practice standards will be adopted after the close of the 30-day period and the consideration of all comments.

ADDRESSES: We invite you to submit comments on this notice. In your comments, include the volume, date, and page number of this issue of the Federal Register. Comments may be submitted by any of the following methods:

• Federal eRulemaking Portal: Go to http://www.regulations.gov and search for docket ID NRCS-2019-0011. Follow the instructions for submitting comments.

• Mail, or Hand Delivery: Mr. Bill Reck, National Environmental Engineer, Conservation Engineering Division, U.S. Department of Agriculture, NRCS, 1400 Independence Avenue, South Building, Room 6136, Washington, DC 20250.

NRCS will post all comments on http://www.regulations.gov. In general, personal information provided with comments will be posted. If your comment includes your address, phone number, email, or other personal identifying information (PII), your comments, including PII, may be available to the public. You may request that your PII be withheld from public view, but this cannot be guaranteed.

The copies of the proposed revised standards are available through http://www.regulations.gov by accessing Docket No. NRCS-2019-0011. Alternatively, the proposed revised standards can be downloaded or printed from http://go.usa.gov/TXye.

FOR FURTHER INFORMATION CONTACT: Mr. Bill Reck, (202) 720-4485; or bill.reck@usda.gov.

SUPPLEMENTARY INFORMATION: NRCS State Conservationists who choose to adopt these practices in their States will incorporate these practices into the respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

The amount of the proposed changes varies considerably for each of the conservation practice standards addressed in this notice. To fully understand the proposed changes, individuals are encouraged to compare these changes with each standard's current version, which can be found at http://www.nrcs.usda.gov/wps/portal/nrcs/detailfull/national/technical/cp/ncps/?cid=nrcs143_026849.

NRCS is requesting for comments on the practice standards: Contour Buffer Strips (Code 332), Dam, Diversion (Code 348); Deep Tillage (Code 324); Irrigation and Drainage Tailwater Recovery (Code 447); Irrigation Canal or Lateral (Code 320); Irrigation Ditch Lining (Code 428); Irrigation Field Ditch (Code 388); Irrigation Reservoir (Code 436); Land Clearing (Code 460); Obstruction Removal (Code 500); Surface Roughening (Code 609); Waste Treatment (Code 629); and Waterspreading (Code 640). The following are highlights of some of the proposed revisions to each standard:

Contour Buffer Strips (Code 332): Formatting and writing style were updated to meet current agency requirements. Updated missing units, tabular values, and changed term flexible membrane to geosynthetic to meet current industry standards. Moved items related to energy use from the Criteria section to the Considerations section.

Dam, Diversion (Code 348): The Criteria section was updated, and references were added. Other changes were made to improve the clarity of language used in the standard.

Deep Tillage (Code 324): Formatting and writing style were updated to meet current agency requirements. Several paragraphs in the Considerations section were edited to improve clarity.

Irrigation and Drainage Tailwater Recovery (Code 447): The title was changed to “Irrigation and Drainage Tailwater Recovery” from “Irrigation System, Tailwater Recovery”. Scope and purposes of the standard were updated to include drainage water as well as irrigation water. This standard applies to lands that have a properly designed and installed irrigation or subsurface drainage system where recoverable irrigation runoff, subsurface drainage outflows, or rainfall runoff are expected under current or planned management practices.

Irrigation Canal or Lateral (Code 320): Formatting and writing style were updated to meet current agency requirements. The Considerations section has a new paragraph that suggests ways the practice can be implemented that enhances the practice for pollinators and other beneficial insects.

Irrigation Ditch Lining (Code 428): Formatting and writing style were updated to meet current agency requirements. Updated missing units, tabular values, and reworded the term flexible membrane to geosynthetic to meet current industry standards. Moved items related to energy use from the Criteria section to the Considerations section.

Irrigation Field Ditch (Code 388): Formatting and writing style were updated to meet current agency requirements. In addition, a sentence on spoil disposal was added in the Criteria section. The Considerations section was significantly re-written.

Irrigation Reservoir (Code 436): Formatting and writing style were updated to meet current agency requirements. Removed energy use bulleted items from the Purpose section. Moved items related to energy use from the Criteria section to the Considerations section. Also moved fencing and critical planting from the Considerations section to the Criteria section.

Land Clearing (Code 460): Formatting and writing style were updated to meet current agency requirements. Relatively minor changes have been made to simplify and clarify the definition, purpose and criteria within the standard.

Obstruction Removal (Code 500): Formatting and writing style were updated to meet current agency requirements. Changes to Purpose and Conditions where Practice Applies sections were made to help clarify standard usage. Changes were made to help simplify and clarify the Criteria and Consideration section within the standards.

Surface Roughening (Code 609): Formatting and writing style were updated to meet current agency requirements. Several paragraphs in the Considerations section were deleted and edited for improved clarity. Reference to the Crop Tolerance Table in the National Agronomy Manual was added.

Waste Treatment (Code 629): Purpose revised to improve water quality, improve air quality resource concerns, and facilitate waste handling and storage. Conditions where this practice applies is on all land uses where manure and/or agricultural waste is being generated and where soils, geology, and topography are suitable for construction of the waste treatment system. Criteria sections added to address system designs outside the scope of current accepted NRCS conservation practice standards, waste stream pretreatment requirements, byproducts handling and storage, and required technical review of treatment performance.

Waterspreading (Code 640): Purpose statements were also reworded to more directly relate to the stated resource concern. In “Conditions where Practice Applies” the language was simplified and more clearly explains where practice may be used. References were added.

Kevin Norton,
Associate Chief, Natural Resources Conservation Service.

[FR Doc. 2019-23111 Filed 10-22-19; 8:45 am]

BILLING CODE 3410-16-P